NATIONAL SCIENCE FOUNDATION

Proposal Review Panel for Materials Research; Notice of Meeting

In accordance with the Federal Advisory Committee Act (Pub. L. 92-463 as amended), the National Science Foundation announces the following meeting:

Name: Proposal Review Panel for Materials Research (#1203); Materials Research Science and Engineering Center (MRSEC), UCSB Site Visit.

Dates & Times:

May 6, 2015; 7:15 p.m.-9:00 p.m.

May 7, 2015; 7:15 a.m.-8:30 p.m.

May 8, 2015; 7:15 a.m.-4:00 p.m.

Place: UCSB, Santa Barbara, CA 93106.

Type of Meeting: Part open.

Contact Person: Dr. Daniele Finotello, Program Director, Materials Research Science and Engineering Centers Program, Division of Materials Research, Room 1065, National Science Foundation, 4201 Wilson Boulevard, Arlington, VA 22230, Telephone (703) 292-4676.

Purpose of Meeting: To provide advice and recommendations concerning further support of the MRSEC at UCSB.

Agenda

Wednesday, May 6, 2015

7:15 p.m.-9:00 p.m. Closed—Briefing of panel

Thursday, May 7, 2015

7:15 a.m.-4:30 p.m. Open—Review of the MRSEC

5:00 p.m.-6:45 p.m. Closed—Executive Session

6:45 p.m.-8:30 p.m. Open—Dinner

Friday, May 8, 2015

7:15 a.m.-9:50 a.m. Closed—Executive Session

9:50 a.m.-4:00 p.m. Closed—Executive Session, Draft and Review Report

Reason for Closing: The work being reviewed during this site visit may include information of a proprietary or confidential nature, including technical information; financial data, such as salaries and personal information concerning individuals associated with the MRSEC. These matters are exempt under 5 U.S.C. 552b(c), (4) and (6) of the Government in the Sunshine Act.

Dated: February 11, 2015.
Suzanne Plimpton,
Acting Committee Management Officer.

[FR Doc. 2015-03175 Filed 2-13-15; 8:45 am]

BILLING CODE 7555-01-P